DEPARTMENT OF COMMERCE

International Trade Administration

[C-533-825]

Polyethylene Terephthalate Film, Sheet, and Strip From India: Final Results of Countervailing Duty Administrative Review; 2018; Correction

AGENCY: Enforcement and Compliance, International Trade Administration, Department of Commerce.

ACTION: Notice; correction.

SUMMARY: The Department of Commerce (Commerce) published notice in the Federal Register of May 17, 2021 in which Commerce determined that Jindal Poly Films Limited of India (Jindal), producer and/or exporter of polyethylene terephthalate film, sheet, and strip (PET film) from India, received countervailable subsidies during the period of review (POR), January 1, 2018, through December 31, 2018. This notice failed to list the cross owned affiliate of Jindal Poly Films Limited.

FOR FURTHER INFORMATION CONTACT: Konrad Ptaszynski at (202) 482-6187 or Nicholas Czajkowski at (202) 482-1395; AD/CVD Operations, Enforcement and Compliance, International Trade Administration, U.S. Department of Commerce, 1401 Constitution Avenue NW, Washington, DC 20230.

SUPPLEMENTARY INFORMATION:

Correction

In the Federal Register of May 17, 2021, in FR Doc 2021-10350, on page 26700, in the second column, correct the Final Results of Administrative Review as follows:

Final Results of Administrative Review

In accordance with section 777A(e)(1) of the Act and 19 CFR 351.221(b)(5), we determine the total estimated net countervailable subsidy rates for the period January 1, 2018, through December 31, 2018 to be:

Manufacturer/exporter | Subsidy rate (percent ad valorem)
Jindal Poly Films Limited of India ¹ | ² 11.67

Background

On May 17, 2021, Commerce published in the Federal Register the final results of the administrative review of the countervailing duty order on PET film from India covering the period January 1, 2018 through December 31, 2018.³ We failed to include Jindal Poly Films Limited of India's cross owned affiliate in the notice. We are correcting the Final Results to clarify that the countervailable subsidy rate for the mandatory respondent, Jindal Poly Films Limited of India applies to its cross owned affiliate, Jindal Films India Ltd.

¹ Jindal Poly Films Limited of India is also known as Jindal Poly Films Limited. Jindal Poly Films Limited of India's cross-owned company is: Jindal Films India Ltd. This cross-owned company is identified in the Preliminary Results. See Polyethylene Terephthalate Film, Sheet, and Strip from India: Preliminary Results and Partial Rescission of Countervailing Duty Administrative Review; 2018, 85 FR 74679 (November 23, 2020), and accompanying Preliminary Decision Memorandum at 5-6; see also Polyethylene Terephthalate Film, Sheet, and Strip from India: Final Results of Countervailing Duty Administrative Review; 2018, 86 FR 26700 (May 17, 2021) (Final Results), and accompanying Issues and Decision Memorandum (IDM) at “Attribution of Subsidies.”

² This rate applies to merchandise produced and/or esported by Jindal Poly Films Linited of India or its cross-owned company Jindal Films India Ltd.

³ See Final Results IDM.

Notification to Interested Parties

This notice is issued and published in accordance with section 751(a)(1) and 777(i)(1) of the Tariff Act of 1930, as amended.

Dated: June 1, 2021.
Christian Marsh,
Acting Assistant Secretary for Enforcement and Compliance.

[FR Doc. 2021-11846 Filed 6-4-21; 8:45 am]

BILLING CODE 3510-DS-P